DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 4, 2007.

Interested persons are invited to submit written comments regarding the subject matter of the investigations to the Director, Division of Trade Adjustment Assistance, at the address shown below, not later than May 4, 2007.

The petitions filed in this case are available for inspection at the Office of the Director, Division of Trade Adjustment Assistance, Employment and Training Administration, U.S. Department of Labor, Room C-5311, 200 Constitution Avenue, NW., Washington, DC 20210.

Signed at Washington, DC, this 17th day of April 2007.
Ralph Dibattista,
Director, Division of Trade Adjustment Assistance.

Appendix
[TAA petitions instituted between 4/9/07 and 4/13/07]
TA-W | Subject firm (petitioners) | Location | Date of institution | Date of petition
61261 | Missbrenner Prints, Inc. (Comp) | Clifton, NJ | 04/09/07 | 03/13/07
61262 | Linium Staffing LLC (State) | Vernon, CT | 04/09/07 | 04/05/07
61263 | Parker Hannifin Corporation (Comp) | Iron Gate, VA | 04/09/07 | 04/05/07
61264 | Sanmine-Woburn (State) | Woburn, MA | 04/09/07 | 04/06/07
61265 | O'Bryan Brothers, Inc. (Wkrs) | Leon, IA | 04/09/07 | 04/06/07
61266 | Mortgage Guaranty Insurance Corp. (Wkrs) | Milwaukee, WI | 04/09/07 | 03/23/07
61267 | Fox River Paper/Neenah Paper (Comp) | Housatonic, MA | 04/10/07 | 04/09/07
61268 | Hewlett Packard Development Company TSG division (State) | Austin, TX | 04/10/07 | 04/09/07
61269 | Auto Truck Transport Corp. (State) | Portland, OR | 04/10/07 | 04/09/07
61270 | CNH American LLC, Belleville Manufacturing Plant (Comp) | Belleville, PA | 04/10/07 | 04/09/07
61271 | J.H. Baxter & Company (UBCJA) | Eugene, OR | 04/10/07 | 04/05/07
61272 | U.S. Borax Inc.-Rio Tinto Minerals (State) | Valencia, CA | 04/10/07 | 04/06/07
61273 | Jeld-Wen Door Systems (Wkrs) | Chiloquin, OR | 04/10/07 | 03/16/07
61274 | Robert Bosch Corp. (State) | Sumter, SC | 04/10/07 | 04/09/07
61275 | DeRoyal Textiles (Comp) | Camden, SC | 04/10/07 | 04/09/07
61276 | ABN Amro (State) | Chicago, IL | 04/10/07 | 04/09/07
61277 | Tonawanda Valve, Inc. (UAW) | North Tonawanda, NY | 04/10/07 | 04/05/07
61278 | Exxon Mobil Chemical Company (Wkrs) | Stratford, CT | 04/10/07 | 04/09/07
61279 | Lexmark International, Inc (Wkrs) | Lexington, KY | 04/10/07 | 04/09/07
61280 | Dutailer va Inc (Comp) | Martinsville, VA | 04/10/07 | 03/28/07
61281 | Form Tech Industries LLC (Comp) | Canal Fulton, OH | 04/11/07 | 04/03/07
61282 | Amphenol Phoenix Interconnect (State) | Tustin, CA | 04/11/07 | 04/10/07
61283 | IBM Corp. (State) | Fulton, KY | 04/11/07 | 04/10/07
61284 | Continental Structural Plastic (Comp) | Petoskey, MI | 04/11/07 | 03/20/07
61285 | Metrologic Corp (State) | Blackwood, NJ | 04/11/07 | 04/10/07
61286 | Nevamar LLC, subsid of Panolam Industries Int'l Inc. (Wkrs) | Tarboro, NC | 04/11/07 | 04/02/07
61287 | HSS-Delphi/Belly Services (State) | Siginaw, MI | 04/11/07 | 03/26/07
61288 | Honeywell International (State) | Golden Valley, MN | 04/11/07 | 04/10/07
61289 | The Siemon Company (State) | Watertown, CT | 04/11/07 | 04/10/07
61290 | Flexible Technologies (Comp) | Abbeville, SC | 04/12/07 | 04/10/07
61291 | RR Donnelley (Wkrs) | Liberty, MO | 04/12/07 | 04/04/07
61292 | Millipore Corporation Bioscience Division (State) | Danvers, MA | 04/12/07 | 04/10/07
61293 | Georgia Pacific Corrugated (Wkrs) | Ridgeway, VA | 04/12/07 | 04/08/07
61294 | Oberie & Associates Inc (State) | Richmond, IN | 04/12/07 | 04/11/07
61295 | Magnetics Division of Spang Inc. (Wkrs) | East Butler, PA | 04/12/07 | 04/10/07
61296 | Valeo Engine Cooling (Wkrs) | Jamestown, NY | 04/12/07 | 04/11/07
61297 | Melcor Corporation Laird Technologies (Comp) | Trenton, NJ | 04/12/07 | 04/05/07
61298 | American Manufacturing International, Inc. (Comp) | Paterson, NJ | 04/12/07 | 04/10/07
61299 | Isaco International (Wkrs) | Miami Lakes, FL | 04/13/07 | 04/12/07
61300 | McKinney Products Co. (Union) | Scranton, PA | 04/13/07 | 04/12/07
61301 | Lexington Furniture Plant 15 (Wkrs) | Lexington, NC | 04/13/07 | 04/06/07
61302 | TDS/US Automotive (Comp) | Chesapeake, VA | 04/13/07 | 03/28/07
61303 | Distinctive Machine Corp (Comp) | Rockford, MI | 04/13/07 | 04/11/07
61304 | Securitas (working on the site at Robert Bosch) (State) | Sumter, SC | 04/13/07 | 04/11/07
61305 | La-Z-Boy Manufacturing, Inc., Lincolnton Facility (Wkrs) | Lincolnton, NC | 04/13/07 | 04/10/07
61306 | Anolog Devices, Inc (Wkrs) | Norwood, MA | 04/13/07 | 04/02/07
61307 | Simply Asia Food (McCormick) (State) | Union City, CA | 04/13/07 | 04/04/07
61308 | Allied Air (Armstrong Air Conditioning) (Wkrs) | Bellevue, OH | 04/13/07 | 04/04/07
61309 | Shiloh Ind. Mansfield Blanking Div. (USW) | Mansfield, OH | 04/13/07 | 04/05/07
61310 | Global Heating Solutions (Comp) | Allegan, MI | 04/13/07 | 04/10/07
61311 | HSS Material Management Solutions (State) | Saginaw, MI | 04/13/07 | 04/11/07
61312 | Ashdale Foam Inc. (Comp) | Conover, NC | 04/13/07 | 04/10/07

[FR Doc. E7-7722 Filed 4-23-07; 8:45 am]

BILLING CODE 4510-FN-P